DEPARTMENT OF TRANSPORTATION

Federal Aviation Administration

14 CFR Part 39

[Docket No. 97-CE-21-AD; Amendment 39-11819; AD 2000-09-15 R1]

RIN 2120-AA64

Airworthiness Directives; Mitsubishi Heavy Industries, Ltd., MU-2B Series Airplanes

AGENCY: Federal Aviation Administration, DOT.

ACTION: Final rule; correction.

SUMMARY: This amendment clarifies information contained in Airworthiness Directive (AD) 2000-09-15, which currently requires you to incorporate modifications to the airplane operating systems on all Mitsubishi Heavy Industries, Ltd. (Mitsubishi) MU-2B series airplanes. The Federal Aviation Administration (FAA) inadvertently omitted service information from the AD that is needed to accomplish these modifications on some of the affected airplanes. This document retains the requirements of AD 2000-09-15, and adds the service information to the AD. The actions specified in this AD are intended to continue to assist in preventing departure from controlled flight while operating in icing conditions.

DATES: The effective date of this AD is July 24, 2000.

The Director of the Federal Register approved the incorporation by reference of certain publications as of July 24, 2000.

ADDRESSES: You may get the service information referenced in this AD from Mitsubishi Heavy Industries America, Inc., 15303 Dallas Parkway, suite 685, LB-77, Addison, Texas 75001-4692; telephone: (972) 980-5001, facsimile: (972) 980-5091. You may examine this information at FAA, Central Region, Office of the Regional Counsel, Attention: Rules Docket No. 97-CE-21-AD, 901 Locust, Room 506, Kansas City, Missouri 64106; or at the Office of the Federal Register, 800 North Capitol Street, NW, suite 700, Washington, DC.

FOR FURTHER INFORMATION CONTACT: Contact one of the following for questions or more information related to this subject: Scott Sedgwick, Aerospace Engineer, Small Airplane Directorate, FAA, 901 Locust, Room 301, Kansas City, Missouri 64106, telephone: (816) 329-4132; facsimile: (816) 329-4090; Carl Fountain, Aerospace Engineer, Los Angeles Aircraft Certification Office, FAA, 3960 Paramount Boulevard, Lakewood, California 90712; telephone: (562) 627-5222; facsimile: (562) 627-5228; or Alma Ramirez-Hodge, Aerospace Engineer, FAA, Airplane Certification Office, 2601 Meacham Boulevard, Fort Worth, Texas 76193-0150; telephone: (817) 222-5147; facsimile: (817) 222-5960.

SUPPLEMENTARY INFORMATION:

Discussion

Has FAA Taken Any Action to This Point?

Several icing-related incidents and accidents of MU-2B series airplanes and FAA's investigation of both the airplane design and pilot's ability to operate in icing conditions caused FAA to issue AD 2000-09-15, Amendment 39-11724 (65 FR 30865, May 15, 2000). This AD requires you to incorporate the following airplane operating systems:

—a deice monitoring system;

—an automatic autopilot disconnect system; and

—a trim-in-motion alert system.

What Has Happened Since AD 2000-09-15 To Initiate This Action?

The FAA inadvertently omitted service information from the AD that is needed to accomplish these modifications on some of the affected airplanes.

Consequently, we see a need to clarify AD 2000-09-15 to assure that the modifications can be fully carried out.

Correction of Publication

This document clarifies the intent of the airplane operating system modifications by incorporating additional service information that is needed to accomplish the actions of AD 2000-09-15 on Mitsubishi MU-2B series airplanes. This document also adds the amendment to § 39.13 of the Federal Aviation Regulations (14 CFR 39.13).

Since this action only clarifies the intent of the Mitsubishi MU-2B series airplane operating system modifications, it has no adverse economic impact and imposes no additional burden on any person than would have been necessary to accomplish the AD as currently written. Therefore, FAA has determined that prior notice and opportunity for public comment are unnecessary.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by removing Airworthiness Directive (AD) 2000-09-15, Amendment 39-11724 (65 FR 30865, May 15, 2000), and by adding a new AD to read as follows:

2000—09-15 R1 Mitsubishi Heavy Industries, Ltd.: Amendment 39-11819; Docket No. 97-CE-21-AD; Revises AD 2000-09-15, Amendment 39-11724.

(a) What airplanes are affected by this AD? This AD applies to all serial numbers of the following Mitsubishi airplane models, certificated in any category: MU-2B, MU-2B-10, MU-2B-15, MU-2B-20, MU-2B-25, MU-2B-26, MU-2B-26A, MU-2B-30, MU-2B-35, MU-2B-36, MU-2B-36A, MU-2B-40, MU-2B-60

(b) Who must comply with this AD? Anyone who wishes to operate any of the above airplanes on the U.S. Register must comply with this AD.

(c) What problem does this AD address? The actions specified by this AD are intended to assist in preventing departure from controlled flight while operating in icing conditions.

(d) What actions must I accomplish to address this problem? Within 12 calendar months after July 24, 2000 (the effective date of this AD), you must incorporate the following modifications:

(1) Install a pneumatic deice monitoring system. You must use the procedures contained in Test Instrumentation, Inc. Document No. MU2-5001, Rev. E., dated May 21, 1997, and attachment; and Mitsubishi Heavy Industries, Ltd., MU-2 Service Bulletin (SB) No. 232, dated July 2, 1997.

(2) Install a trim-in-motion alerting system and automatic autopilot disconnect system. Use the procedures contained in the following:

(i) Test Instrumentation, Inc. Document No. MU2-1001, Rev. C, dated June 15, 1997, and attachment, or Test Instrumentation, Inc. Document No. MU2-1001, Rev. D, dated December 17, 1997, and attachment; and

(ii) Test Instrumentation, Inc. Document No. MU2-4001, Rev. C, dated June 30, 1997, and attachment, or Test Instrumentation, Inc. Document No. MU2-4001, Rev. F, dated July 14, 1998, and attachment; and

(iii) Mitsubishi MU-2 SB No. 231, dated July 2, 1997.

(3) Install an auto-ignition (re-light) system. Use the procedures contained in the following:

(i) Mitsubishi Heavy Industries, Ltd., MU-2 SB No. 226, which incorporates the following pages:

Pages | Revision level | Date
2 through 11, 13 through 23, 27 through 57, 59, and 61 through 93 | A | January 13, 1997.
1, 12, 24, 25, 26, 58, and 60 | B | October 27, 1997.

(ii) Mitsubishi Heavy Industries, Ltd., MU-2 SB No. 086/74-002, dated November 15, 1995.

(e) Can I comply with this AD in any other way? You may use an alternative method of compliance or adjust the compliance time if:

(1) Your alternative method of compliance provides an equivalent level of safety; and

(2) The Manager of one of the following approves your alternative. Submit your request through an FAA Principal Maintenance Inspector, who may add comments and then send it to the Manager:

(i) Small Airplane Directorate, FAA, 901 Locust, Room 301, Kansas City, Missouri 64106;

(ii) Los Angeles Aircraft Certification Office, FAA, 3960 Paramount Boulevard, Lakewood, California 90712; or

(iii) Fort Worth Airplane Certification Office, FAA, 2601 Meacham Boulevard, Fort Worth, Texas 76193-0150.

Note: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact one of the following:

(1) Small Airplane Directorate, FAA, 901 Locust, Room 301, Kansas City, Missouri 64106; telephone: (816) 329-4132, facsimile: (816) 329-4090;

(2) Los Angeles Aircraft Certification Office, FAA, 3960 Paramount Boulevard, Lakewood, California 90712; telephone: (562) 627-5222; facsimile: (562) 627-5228; or

(3) Fort Worth Airplane Certification Office, FAA, 2601 Meacham Boulevard, Fort Worth, Texas 76193-0150; telephone: (817) 222-5147; facsimile: (817) 222-5960.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference?

(1) You must accomplish the actions required by this AD in accordance with the service bulletins specified below:

(i) Mitsubishi Heavy Industries, Ltd., MU-2 SB No. 231, dated July 2, 1997;

(ii) Mitsubishi Heavy Industries, Ltd., MU-2 SB No. 232, dated July 2, 1997;

(iii) Test Instrumentation, Inc. Document No. MU2-1001, Rev. C, dated June 15, 1997, and attachment;

(iv) Test Instrumentation, Inc. Document No. MU2-4001, Rev. C, dated June 30, 1997, and attachment;

(v) Test Instrumentation, Inc. Document No. MU2-5001, Rev. E, dated May 21, 1997, and attachment; and

(vi) Mitsubishi Heavy Industries, Ltd., MU-2 SB No. 226, which incorporates the following pages:

Pages | Revision Level | Date
2 through 11, 13 through 23, 27 through 57, 59, and 61 through 93 | A | January 13, 1997.
1, 12, 24, 25, 26, 58, and 60 | B | October 27, 1997.

(vii) Test Instrumentation, Inc. Document No. MU2-1001, Rev. D, dated December 17, 1997, and attachment;

(viii) Test Instrumentation, Inc. Document No. MU2-4001, Rev. F, dated July 14, 1998, and attachment; and

(ix) Mitsubishi Heavy Industries, Ltd., MU-2 SB No. 086/74-002, dated November 15, 1995.

(2) The Director of the Federal Register approved this incorporation by reference under 5 U.S.C. 552(a) and 1 CFR part 51.

(3) You can get copies from Mitsubishi Heavy Industries America, Inc., 15303 Dallas Parkway, suite 685, LB-77, Addison, Texas 75001-4692. You can look at copies at FAA, Central Region, Office of the Regional Counsel, 901 Locust, Room 506, Kansas City, Missouri; or at the Office of the Federal Register, 800 North Capitol Street, NW, suite 700, Washington, DC.

(i) When does this amendment become effective? This amendment becomes effective on July 24, 2000.

Issued in Kansas City, Missouri, on July 7, 2000.
Michael Gallagher,
Manager, Small Airplane Directorate, Aircraft Certification Service.

[FR Doc. 00-17908 Filed 7-21-00; 8:45 am]

BILLING CODE 4910-13-U